ELECTION ASSISTANCE COMMISSION

Publication of State Plans Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to HAVA State plans previously submitted by Arkansas, Illinois, Nebraska and North Dakota.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates.

The submissions from Arkansas, Illinois, Nebraska and North Dakota address material changes to the original State plans and, in accordance with HAVA section 254(a)(12), provide information on how the State succeeded in carrying out the previous State plan. Arkansas has received its 2003 and 2004 HAVA requirements payments, but is submitting updates to its previous State plan, primarily to address a change in the State's plans for procuring HAVA compliant voting systems. Illinois and North Dakota are submitting material changes to their previous State plans that address, among other matters, the expected 2004 HAVA requirements payments, which is a prerequisite to receiving these funds. (Illinois' certification for its 2003 requirements payment is pending; North Dakota has received its 2003 requirements payment.) Nebraska has received its 2003 HAVA requirements payment but is submitting material changes, among which are those addressing the increased amount of the 2004 requirements payment expected by the State and an increase in the amount set aside by the State for the 5% match, required by HAVA section 253(b)(5) to receive such funds.

Upon the expiration of 30 days from December 22, 2004, the States whose plans are published herein will be eligible to implement any material changes addressed therein, in accordance with HAVA section 254(a)(11)(C). At that time, in accordance with HAVA section 253(d), Illinois and North Dakota also may file a statement of certification to obtain the fiscal year 2004 requirements payments for which the States did not previously qualify under HAVA section 253(b)(1) and Nebraska may also file a statement of certification to obtain its fiscal year 2004 payment for which it did not previously qualify under HAVA section 253(b)(5). These statements of certification must confirm that the jurisdiction is in compliance with all of the requirements referred to in HAVA section 253(b) and must be provided to the Election Assistance Commission in order for the State to receive a requirements payment under HAVA Title II, Subtitle D.

EAC notes that plans published herein include only those that have already met the notice and comment requirements of HAVA section 256, as required by HAVA section 254(a)(11)(B). EAC wishes to acknowledge the effort that went into the revising the State plans and encourages further public comment, in writing, to the chief election official of the individual States at the address listed below.

Chief State Election Officials

Arkansas

The Honorable Charlie Daniels, Secretary of State, 256 State Capitol Bldg, Little Rock AR 72201, Phone: 501-682-1010, Fax: 501-682-3510, E-mail: ElectionsEmail@sosmail.state.ar.us

Illinois

Daniel W. White, Executive Director, State Board of Elections, 1020 S. Spring St, Springfield IL 62704, Phone: 217-782-4141, Fax: 217-524-5574, E-mail: dwhite@elections.state.il.us

Nebraska

The Honorable John A. Gale, Secretary of State, State Capitol, Ste 2300, Lincoln NE 68509-4608, Phone: 402-471-2555, FAX 402-471-3237, E-mail: Jgale@nol.org

North Dakota

The Honorable Alvin A. Jaeger, Secretary of State, 600 East Boulevard Ave., Dept. 108, Bismarck ND 58505-0500, Phone: 701-328-2900, Fax: FAX 701-328-2992, Email: sos@state.nd.us

Thank you for your interest in improving the voting process in America.

Dated: December 15, 2004.
DeForest B. Soaries, Jr.,
Chairman, U.S. Election Assistance Commission.

BILLING CODE 6820-YN-P

[FR Doc. 04-27838 Filed 12-21-04; 8:45 am]

BILLING CODE 6820-YN-C